OVERSEAS PRIVATE INVESTMENT CORPORATION

Sunshine Act; Board of Directors Meeting, June 2, 2011

TIME AND DATE: Thursday, June 2, 2011, 11 a.m. (CLOSED Portion).

PLACE: Offices of the Corporation, Twelfth Floor Board Room, 1100 New York Avenue, NW., Washington, DC.

STATUS: Closed portion will commence at 11 a.m.

Matters To Be Considered (Closed to the Public 11 a.m.)

1. Finance Project -Global.

2. Finance Project—Peru.

Written summaries of the projects to be presented will be posted on OPIC's Web site on or about May 12, 2011.

CONTACT PERSON FOR INFORMATION: Information on the meeting may be obtained from Connie M. Downs at (202) 336-8438.

Dated: May 6, 2011.
Connie M. Downs,
Corporate Secretary, Overseas Private Investment Corporation.

[FR Doc. 2011-11513 Filed 5-6-11; 11:15 am]

BILLING CODE 3210-01-P